GENERAL SERVICES ADMINISTRATION

[Notice-PBS-2024-06; Docket No. 2024-0002; Sequence No. 27]

Notice of Availability for the Record of Decision on the Supplemental Environmental Impact Statement for the International Falls Land Port of Entry Modernization and Expansion Project in International Falls, Minnesota

AGENCY: Great Lakes Region 5, Public Buildings Service (PBS), General Services Administration (GSA).

ACTION: Notice.

SUMMARY: GSA issued a Record of Decision (ROD) on the Supplemental Environmental Impact Statement (SEIS) for the International Falls Land Port of Entry (LPOE) Modernization and Expansion Project in International Falls, Minnesota (MN), on May 30, 2024. The ROD was prepared in accordance with the National Environmental Policy Act (NEPA) of 1969, the Council on Environmental Quality Regulations, and the GSA PBS NEPA Desk Guide.

DATES: Applicable: Thursday, May 30, 2024.

ADDRESSES: The ROD may be found online at the following website: https://www.gsa.gov/about-us/gsa-regions/region-5-great-lakes/buildings-and-facilities/minnesota/international-falls-land-port-of-entry.

FOR FURTHER INFORMATION CONTACT: Michael Gonczar, NEPA Program Manager, GSA, at 312-810-2326, or via email to michael.gonczar@gsa.gov.

SUPPLEMENTARY INFORMATION:

Background

The International Falls LPOE is a port of entry for vehicles and pedestrians crossing the U.S.-Canada border between International Falls, MN and the town of Fort Frances, Ontario, Canada. The port is operated by the U.S. Department of Homeland Security's Customs and Border Protection (CBP) and is a full-service, multi-modal facility where CBP officers inspect commercially owned vehicles (COVs), privately owned vehicles (POVs), and pedestrians.

The International Falls LPOE Improvements Study Final EIS, released in 2011, assessed the potential environmental impacts associated with the proposed action of replacing the International Falls LPOE with a new LPOE facility “to improve safety, security, and functionality.” A total of ten build alternatives were considered, and a preferred action alternative was identified in the 2011 Final EIS as best satisfying the purpose and need of the project with the least overall adverse impacts to the environment. The 2011 preferred alternative consisted of demolishing the existing building, constructing new facilities at the existing LPOE, and expanding the LPOE to meet the required space standards and increased security requirements of the Federal Inspection Services. The 2011 preferred alternative proposed to move the majority of the LPOE improvements and operations to an approximately 20-acre site southeast of the existing site. Since 2011, GSA identified changes to the project, which differed from the preferred alternative described in the 2011 EIS. As such, GSA prepared a Final SEIS to assess the potential impacts of project updates, which were not assessed in the 2011 EIS.

The purpose of the Proposed Action is for GSA to support CBP's mission by bringing the International Falls LPOE operations in line with current land port design standards and operational requirements of CBP while addressing existing deficiencies identified with the ongoing port operations. In order to bring the International Falls LPOE operations in line with CBP's design standards and operational requirements, the Proposed Action is needed to (1) improve the capacity and functionality of the International Falls LPOE to meet future demand, while maintaining the capability to meet border security initiatives; (2) address spatial and layout constraints that lead to traffic congestion and safety issues for the employees and users of the LPOE; and (3) provide adequate space and facilities for the Federal agencies to accomplish their missions.

On December 9, 2022, GSA published a Notice of Intent for the SEIS and underwent a 35-day scoping period. A Draft SEIS and Draft Floodplain Assessment and Statement of Findings were issued over a 45-day public comment period on October 27, 2023; and a Final SEIS and Floodplain Assessment and Statement of Findings were issued over a 30-day waiting period on April 19, 2024.

Comments received, along with GSA's responses, during the Final SEIS waiting period are provided in Appendix A and B of the ROD.

Preferred Alternative

GSA has chosen to implement Alternative 1: Full Build as defined in the Final SEIS (GSA, April 2024). This decision is based on the Final SEIS issued in April 2024; associated technical reports; comments from Federal and State agencies, stakeholders, members of the public, and elected officials; and miscellaneous resources contained in the administrative record.

Alternative 1 (Full Build) includes the project as generally assessed under the 2011 preferred alternative but modified by project updates. Similar to the 2011 preferred alternative, Alternative 1 proposed expansion area encompasses an approximately 20-acre area that stretches east from the LPOE along the Rainy River shoreline to an area just west of a U.S. Border Patrol Station and primarily bordered by State Route 11 (SR-11) on the south. Approximately 16 and 4 acres are owned by the Packing Corporation of America (PCA) and Recreational Land Development, LLC, respectively. Most of the LPOE functions will be relocated in the expanded portion of the parcel between the Rainy River and SR-11. A construction phasing plan will be developed during design and implemented during demolition and construction to ensure continuity of operations of the LPOE, as well as minimize disruptions to PCA and other neighboring operations.

To prepare the proposed expansion area for development, some existing utilities and PCA infrastructure will need to be accommodated in a new way, either within the LPOE via easements or moved off site to the west or south on PCA-owned land. Project changes have triggered the reconfiguration of some of the existing PCA operations on PCA lands and will require relocation of some infrastructure associated with PCA, the MD&W Railway, and OfficeMax. Relocation of utilities and infrastructure may be conducted by either GSA or PCA, depending on final acquisition negotiations. Actions taken by PCA are considered as connected actions to the Proposed Action.

Alternative 1 also considers the implementation of renewable energy technologies within the expanded and modernized LPOE. These technologies were not considered in the 2011 Final EIS but have since been proposed for inclusion in future site plans. Renewable technologies that may be incorporated into the facility design include solar and geothermal technologies, depending on the final design.

GSA is currently undergoing formal consultation with the State Historic Preservation Officer (SHPO) and consulting parties to follow coordination procedures as required under Section 106 of the National Historic Preservation Act. GSA intends on implementing and complying with all mitigation measures resulting from section 106 consultation as detailed in the ROD.

William Renner,
Director, Facilities Management and Services Programs Division, Great Lakes Region 5, U.S. General Services Administration.

[FR Doc. 2024-12700 Filed 6-10-24; 8:45 am]

BILLING CODE 6820-CF-P